DEPARTMENT OF HEALTH AND HUMAN SERVICES

[Document Identifier: OS-0990-New]

Agency Information Collection Request. 60-Day Public Comment Request

AGENCY: Office of the Secretary, HHS.

In compliance with the requirement of section 3506(c)(2)(A) of the Paperwork Reduction Act of 1995, the Office of the Secretary (OS), Department of Health and Human Services, is publishing the following summary of a proposed information collection request for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden. To obtain copies of the supporting statement and any related forms for the proposed paperwork collections referenced above, e-mail your request, including your address, phone number, OMB number, and OS document identifier, to Sherette.funncoleman@hhs.gov, or call the Reports Clearance Office on (202) 690-6162. Written comments and recommendations for the proposed information collections must be directed to the OS Paperwork Clearance Officer at the above e-mail address within 60 days.

Proposed Project: Comprehensive Communication Campaign for HITECH Act—OMB No. 0990-NEW-Office National Coordinator for Health Information Technology (ONC).

Abstract: As part of the Health Information Technology for Economic and Clinical Health Act (HITECH Act) of 2009, ONC is proposing to conduct a nationwide communication campaign to meet the Congressional mandate to educate the public about privacy and security of electronically exchanged personal health information. ONC requires formative and process information about different segments of the public to conduct the campaign effectively. Data collection will occur continuously through the 24 months of the campaign. The data will be used to inform campaign strategies, messages, materials and Web sites.

ONC is collaborating with the HHS Office of Civil Rights to oversee the education and communication activities. The purpose of the campaign is to reach consumers, patients and health care providers to:

• Build approval for HIT adoption and meaningful use.

• Increase patient and provider participation in electronic health information exchange.

• Educate the public about the uses of personal health information and privacy and security protections available to them.

• Generate participation in HITECH programs (e.g. loans, grants, and contracts). Electronic health information exchange promises an array of potential benefits for individuals and the U.S. health care system through improved health care quality, safety, and efficiency. At the same time, this environment also poses new challenges and opportunities for protecting health information. Health information technology and electronic health information exchange may also provide individuals with new, more effective methods to engage with their health care providers and affect how their health information may be exchanged.

Estimated Annualized Burden Hour Table
Form | Number of respondents | Number of responses per respondent | Average burden hours per response | Total burden hours
In-depth interview screening | 500 | 1 | 10/60 | 83
In-depth interview main interview | 360 | 1 | 1 | 360
Focus group screening | 800 | 1 | 10/60 | 133
Focus group main interview | 400 | 1 | 2 | 800
Web-based message testing main interview | 660 | 1 | 1 | 660
Omnibus survey questions main interview | 4,000 | 1 | 10/60 | 667
Card sorting screening | 400 | 1 | 10/60 | 67
Card sorting main interview | 100 | 1 | 1.5 | 150
Total |  |  |  | 2,920

Seleda Perryman,
Office of the Secretary, Paperwork Reduction Act Reports Clearance Officer.

[FR Doc. 2010-8733 Filed 4-15-10; 8:45 am]

BILLING CODE 4150-45-P